DEPARTMENT OF JUSTICE

Notice of Lodging of Consent Decree Under the Comprehensive Environmental Response Compensation and Liability Act

In accordance with Department of Justice policy, notice is hereby given that on March 29, 2007, a proposed consent decree (“Consent Decree”) in United States v. Masterwear Corporation, et al., Civil Action No. 05-cv-00373, was lodged with the United States District Court for the Southern District of Indiana.

The Consent Decree would resolve claims for unreimbursed past response costs and projected future response costs incurred by the United States related to the ongoing removal action at the Masterwear Superfund Site (“Site”) in Martinsville, Indiana. Under the Consent Decree, the five defendants (James A. Reed, Linda Lou Mull Reed, Masterwear Corporation, William J. Cure, and Elizabeth J. Cure) named in the United States' complaint would pay a total of $380,000 in past costs and estimated future costs, based on agreements with their insurance companies (the insurance companies are not signatories to the proposed Consent Decree but have private agreements with the defendants to make the payments). The settlement would provide EPA with complete reimbursement for past and projected future costs relating to the removal action. The defendants will remain responsible under a Unilateral Administrative Order dated April 22, 2004 for completing the removal work at the Site, which they also intend to finance with funds from their insurance companies.

The Department of Justice will receive for a period of thirty (30) days from the date of this publication comments relating to the Consent Decree. Comments should be addressed to the Assistant Attorney General, Environmental and Natural Resources Division, and either e-mailed to pubcomment-ees.enrd@usdoj.gov or mailed to P.O. Box No. 7611, Washington, DC 20044-7611, and should refer to United States v. Masterwear Corporation et al., Civil Action No. 05-cv-00373, D.J. Ref. 90-11-3-08498.

The Consent Decree may be examined at the Office of the United States Attorney, 10 West Market Street, Suite 2100, Indianapolis, Indiana 46204, and at U.S. EPA Region 5, 77 W. Jackson Blvd., Chicago, IL 60604-4590. During the public comment period, the Consent Decree may also be examined on the following Department of Justice Web site, http://www.usdoj.gov/enrd/Consent_Decrees.html. A copy of the Consent Decree may also be obtained by mail from the Consent Decree Library, P.O. Box 761, U.S. Department of Justice, Washington, D.C. 20044-7611, or by faxing or e-mailing a request to Tonia Fleetwood (tonia.fleetwood@usdoj.gov), fax no. (202) 514-0097, phone confirmation number (202) 514-1547. In requesting a copy from the Consent Decree Library, please enclose a check in the amount of $8.75 (35 pages at 25 cents per page reproduction cost) payable to the U.S. Treasury.

William D. Brighton,
Assistant Chief, Environmental Enforcement Section, Environment and Natural Resources Division.

[FR Doc. 07-1814 Filed 4-11-07; 8:45am]

BILLING CODE 4410-15-M